DEPARTMENT OF AGRICULTURE

Submission for OMB Review; Comment Request

September 13, 2012.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Community Eligibility Option Evaluation.

OMB Control Number: 0584-NEW.

Summary of Collection: Section 104(a) of the Healthy, Hunger Free Kids Act of 2010 provides the Community Eligibility Option (the CE Option) for Local Educational Authorities (LEAs) and schools, as an alternative to household applications for Free or Reduced Price meals. Under the CE Option, families are not required to submit application for free or reduced-price meals, and schools are required to provide free meals to all students. The potential benefits are that more students participate, meals are more nutritious, and LEAs may experience reductions in administrative burden and errors. In order to understand how the CE Option is implemented, incentives and barriers for LEAs and schools, as well as the impacts on LEAs, schools and children, Congress has mandated that the Food and Nutrition Service (FNS) conduct an evaluation of the CE Option.

Need and Use of the Information: FNS will collection information from the study: To estimate the number of eligible LEAs and schools that do not choose the CE Options; To assess the barriers to participation in the CE Option in non-participating but eligible LEAs and schools; To describe the LEAs and schools participating in the CE Option; To examine the impacts of the CE Option on (1) Program integrity, (2) availability of School Breakfast program, (3) nutritional quality of meals, (4) program participation by students, (5) program administration, (6) foodservice revenues and costs; and To provide input to FNS deliberations about the key parameters for the CE Option: The multiplier for determining the percentage of meals reimbursed at the free rate and the threshold value of the ISP for determining eligibility to implement the option.

Description of Respondents: State, Local or Tribal Government; Not-for-profit institutions.

Number of Respondents: 3,574.

Frequency of Responses: Reporting: Annually.

Total Burden Hours: 2,383.

Ruth Brown,
Departmental Information Collection Clearance Officer.

[FR Doc. 2012-23016 Filed 9-18-12; 8:45 am]

BILLING CODE 3410-P